DEPARTMENT OF COMMERCE

Submission for OMB Review; Comment Request

DOC has submitted to the Office of Management and Budget (OMB) for clearance the following proposal for collection of information under the provisions of the Paperwork Reduction Act of 1995, Pub. L. 104-13.

Bureau: International Trade Administration.

Title: Antidumping and Countervailing Duties, Procedures for Initiation of Downstream Product Monitoring.

Agency Form Number: ITA-4119P.

OMB Number: 0625-0200.

Type of Request: Regular Submission.

Burden: 15 hours.

Number of Respondents: 1.

Avg. Hours Per Response: 15 hours.

Needs and Uses: The International Trade Administration's (ITA), Import Administration, AD/CVD Enforcement, implements the U.S. antidumping and countervailing duty law. Under section 1320 of the Omnibus Trade and Competitiveness Act of 1988, a domestic producer of an article that is like a component part of a downstream product may petition the Department of Commerce to designate the downstream product for monitoring. Section 1320, and the Department's rule 19 CFR 351.223, requires that the petition identify the downstream product to be monitored, the relevant component part, and the likely diversion of foreign exports of the component part into increased exports of the downstream product to the United States. ITA will evaluate the petition and will issue either an affirmative or negative “monitoring” determination.

Affected Public: Businesses or other for-profits.

Frequency: On occasion.

Respondent's Obligation: Required to obtain or retain a benefit.

OMB Desk Officer: David Rostker, (202) 395-3897.

Copies of the above information collection proposal can be obtained by calling or writing Diana Hynek, Departmental Paperwork Clearance Officer, (202) 482-0266, Department of Commerce, Room 6625, 14th and Constitution, NW., Washington, DC 20230 or via internet at dHynek@doc.gov.

Written comments and recommendations for the proposed information collection should be sent to David Rostker, OMB Desk Officer, Room 10202, New Executive Office Building, Washington, DC 20503 within 30 days of the publication of this notice in the Federal Register.

Dated: October 17, 2002.
Madeleine Clayton,
Management Analyst, Office of the Chief Information Officer.

[FR Doc. 02-26889 Filed 10-22-02; 8:45 am]

BILLING CODE 3510-DA-P